DEPARTMENT OF AGRICULTURE

Submission for OMB Review; Comment Request

October 22, 2019.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 25, 2019 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Performance Reporting System, Management Evaluation.

OMB Control Number: 0584-0010.

Summary of Collection: The purpose of the Performance Reporting System is to ensure that each State agency and project area is operating the Supplemental Nutrition Assistance Program (SNAP) in accordance with the Act, regulations, and the State agency's Plan of Operation. Section 11 of the Food and Nutrition Act (the Act) of 2008 requires that State agencies maintain necessary records to ascertain that SNAP is operating in compliance with the Act and regulations and must make these records available to the Food and Nutrition Service (FNS) for inspection.

Need and Use of the Information: FNS will use the information to evaluate state agency operations and to collect information that is necessary to develop solutions to improve the State's administration of SNAP policy and procedures. Each State agency is required to submit one review schedule every one, two, or three years, depending on the project areas make-up of the state.

Description of Respondents: State, Local, or Tribal Government.

Number of Respondents: 53.

Frequency of Responses: Recordkeeping; Reporting: Annually.

Total Burden Hours: 491,172.

Food and Nutrition Service

Title: Seniors Farmers' Market Nutrition Program (SFMNP).

OMB Control Number: 0584-0541.

Summary of Collection: This submission is a revision of a currently approved collection which covers the reporting and recordkeeping burden associated with the Seniors Farmers' Market Nutrition Program, OMB #0584-0541. The Farm Security and Rural Investment Act of 2002 (the 2002 Farm Bill), Public Law 107-171, authorized the SFMNP as a competitive grant program beginning Fiscal Year (FY) 2003 and gave USDA the authority to develop Federal regulations guiding the administration of the SFMNP. The Agriculture Improvement Act of 2018, Public Law 115-334 (the 2018 Farm Bill), provided continued funding for the SFMNP through FY 2023. Federal regulations governing the SFMNP (7 Code of Federal Regulations, part 249) require that certain program-related information be collected and that full and complete records concerning SFMNP operations are maintained. The information reporting and recordkeeping burdens are necessary to ensure appropriate and efficient management of the SFMNP.

Need and Use of the Information: The information collected is used by USDA to manage, plan, evaluate, make decisions, and report on SFMNP program operations. FNS uses the information collection to assess how each SFMNP State agency operates; to ensure regulatory compliance of State agencies, local agencies, and farmers/farmers' markets/roadside stands/CSA programs; to make program management decisions; and to report to Congress as needed.

Description of Respondents: State, Local, or Tribal Governments; Individuals and Households; Small Businesses (authorized outlets).

Number of Respondents: 854,090.

Frequency of Responses: Reporting: Annually.

Total Burden Hours: 449,090.

Ruth Brown,
Departmental Information Collection Clearance Officer.

[FR Doc. 2019-23306 Filed 10-24-19; 8:45 am]

BILLING CODE 3410-30-P